DEPARTMENT OF LABOR

Employment and Training Administration

[TA-W-54,548]

Eli Group, Providence, RI; Notice of Termination of Investigation

Pursuant to section 221 of the Trade Act of 1974, as amended, an investigation was initiated on March 18, 2004 in response to a petition filed by on behalf of workers at Eli Group, Providence, Rhode Island.

The petition was not submitted by a company official, union official, State agency representative, or worker group, and is therefore invalid. Consequently, the investigation has been terminated.

Signed at Washington, DC this 23rd day of April 2004.
Linda G. Poole,
Certifying Officer, Division of Trade Adjustment Assistance.

[FR Doc. E4-1054 Filed 5-7-04; 8:45 am]

BILLING CODE 4510-13-P